DEPARTMENT OF COMMERCE

National Oceanic and Atmospheric Administration

50 CFR Part 679

[Docket No. 141021887-5172-02]

RIN 0648-XE223

Fisheries of the Exclusive Economic Zone Off Alaska; Exchange of Flatfish in the Bering Sea and Aleutian Islands Management Area; Correction

AGENCY: National Marine Fisheries Service (NMFS), National Oceanic and Atmospheric Administration (NOAA), Commerce.

ACTION: Temporary rule; correction.

SUMMARY: The National Marine Fisheries Service (NMFS) is correcting a temporary rule that exchanged unused Community Development Quota (CDQ) for CDQ acceptable biological catch (ABC) reserves that published on October 5, 2015. The CDQ group that initiated this transfer was incorrect.

DATES: Effective October 16, 2015.

FOR FURTHER INFORMATION CONTACT: Josh Keaton, 907-586-7228.

SUPPLEMENTARY INFORMATION:

Need for Correction

NMFS published the exchange of unused CDQ for CDQ ABC reserves on October 5, 2015. The document contained errors by incorrectly stating which CDQ group initiated the transfer. This correction will not affect the fishing operations. These corrections are necessary to provide the correct information on which CDQ group initiated the transfer in order to avoid confusion by fishery participants.

Correction

1. In the Federal Register of October 5, 2015, (80 FR 60073) in FR Doc. 2015-25291, on page 60073, column 3, paragraph 2, sentence 1 is corrected to state:

“The Norton Sound Economic Development Corporation has requested that NMFS exchange 568 mt of flathead sole and 210 mt of rock sole CDQ reserves for 778 mt of yellowfin sole CDQ ABC reserves under § 679.31(d).”

2. In the Federal Register of October 5, 2015, (80 FR 60073) in FR Doc. 2015-25291, on page 60074, columns 1-2, paragraph 1, sentence 3 is corrected to state:

“This requirement is impracticable and contrary to the public interest as it would prevent NMFS from responding to the most recent fisheries data in a timely fashion and would delay the flatfish exchange by the Norton Sound Economic Development Corporation in the BSAI.”

Classification

The Assistant Administrator for Fisheries, NOAA (AA), finds good cause to waive the requirement to provide prior notice and opportunity for public comment pursuant to the authority set forth at 5 U.S.C. 553(b)(B) as such requirement is impracticable and contrary to the public interest. This correction amendment corrects an error identifying the CDQ group that initiated the transfer and does not change operating practices in the fisheries. Corrections should be made as soon as possible to avoid confusion for participants in the fisheries.

The AA also finds good cause to waive the 30-day delay in the effective date of this action under 5 U.S.C. 553(d)(3). This finding is based upon the reasons provided above for waiver of prior notice and opportunity for public comment.

Authority: 16 U.S.C. 1801 et seq.

Dated: October 13, 2015.
Emily H. Menashes,
Acting Director, Office of Sustainable Fisheries, National Marine Fisheries Service.

[FR Doc. 2015-26367 Filed 10-15-15; 8:45 am]

BILLING CODE 3510-22-P